DEPARTMENT OF COMMERCE

National Oceanic and Atmospheric Administration

50 CFR Parts 600 and 660

[Docket No. 991223347-9347; I.D. 102600C]

Fisheries off West Coast States and in the Western Pacific; Pacific Coast Groundfish Fishery; Recreational Fishery Closure

Correction

In rule document 00-28534 beginning on page 66655 in the issue of Tuesday, November 7, 2000, make the following correction:

On page 66656, in the second column, in paragraph (1) (b), “[insert date of filing for public inspection with the Office of the Federal Register]” should read “November 2, 2000”.

[FR Doc. C0-28534 Filed 11-15-00; 8:45 am]

BILLING CODE 1505-01-D

DEPARTMENT OF DEFENSE

48 CFR Part 252, and Appendices E and F to Chapter 2

Defense Federal Acquisition Regulation Supplement; Technical Amendments

Correction

In rule document 00-27243 beginning on page 63804 in the issue of Wednesday, October 25, 2000 make the following correction:

252.247-7015 [Corrected]

On page 63805 in Table 2, under the heading “Address”, in the fourth line, “CAO address otherwise specified in the contract” should read “CAO address unless otherwise specified in the contract”.

[FR Doc. C0-27243 Filed 11-15-00; 8:45 am]

BILLING CODE 1505-01-D

DEPARTMENT OF DEFENSE

48 CFR Appendix F to Chapter 2

[DFARS Case 2000-D008]

Defense Federal Acquisition Regulation Supplement; Material Inspection and Receiving Report

Correction

In rule document 00-27246 beginning on page 63802 in the issue of Wednesday, October 25, 2000 make the following correction:

Chapter 2 to Appendix F- [Corrected]

On page 63803 in the third column, in paragraph (b)(1)(iii), in the fourth line “SP” should read “SF”.

[FR Doc. C0-27246 Filed 11-15-00; 8:45 am]

BILLING CODE 1505-01-D

SECURITIES AND EXCHANGE COMMISSION

[Investment Company Act Release No. 24645; 812-12242]

First American Investment Funds, Inc. and U.S. Bank National Association; Notice of Application

Correction

In notice document 00-24546 beginning on page 57631 in the issue of Monday, September 25, 2000, the docket number is corrected to read as set forth above.

[FR Doc. C0-24546 Filed 11-15-00; 8:45 am]

BILLING CODE 1505-01-D

SECURITIES AND EXCHANGE COMMISSION

[Release No. IC-24642; 812-11962]

Bill Gross' Idealab!; Notice of Application

Correction

In notice document 00-24270 beginning on page 57211 in the issue of Thursday, September 21, 2000, the docket number is corrected to read as set forth above.

[FR Doc. C0-24270 Filed 11-15-00; 8:45 am]

BILLING CODE 1505-01-D